DEPARTMENT OF HEALTH AND HUMAN SERVICES

Administration for Community Living

Agency Information Collection Activities: Submission for OMB Review; Comment Request; Alzheimer's and Dementia Program Data Reporting Tool

AGENCY: Administration for Community Living, HHS.

ACTION: Notice.

SUMMARY: The Administration on Aging (AoA), Administration for Community Living (ACL) is announcing an opportunity to comment on the proposed collection of information by the agency. Under the Paperwork Reduction Act of 1995 (the PRA), Federal agencies are required to publish notice in the Federal Register concerning each proposed collection of information, including each proposed extension of an existing collection of information, and to allow 60 days for public comment in response to the notice. This notice collects comments on the information collection requirements relating to the continuation of an existing collection for the Alzheimer's Disease Supportive Services Program and expansion of collection to include ACL grantees of the Alzheimer's Disease Initiative—Specialized Supportive Services (ADI-SSS) project.

DATES: Submit written comments on the collection of information by October 24, 2016.

ADDRESSES: Submit written comments on the collection of information by email to Erin.Long@acl.hhs.gov.

FOR FURTHER INFORMATION CONTACT: Erin Long Erin.Long@acl.hhs.gov.

SUPPLEMENTARY INFORMATION: The Alzheimer's Disease Supportive Services Program (ADSSP) is authorized through Sections 398, 399 and 399A of the Public Health Service (PHS) Act, as amended by Public Law 101-557 Home Health Care and Alzheimer's Disease Amendments of 1990. The ADSSP helps state efforts to expand the availability of community-level supportive services for persons with Alzheimer's disease and their caregivers, including underserved populations. ADI-SSS projects are financed solely by Prevention and Public Health Funds. Similar in scope to ADSSP, ADI-SSS projects are designed to fill gaps in dementia-capable home and community based services (HCBS) for persons living with or those at high risk of developing Alzheimer's disease and related dementias (ADRD) and their caregivers by providing quality, person-centered services that help them remain independent and safe in their communities.

In compliance with the PHS Act, ACL revised an ADSSP Data Reporting Tool (ADSSP-DRT) in 2013. The 2016 revised Alzheimer's and Dementia Program Data Reporting Tool (ADP-DRT) collects information about the delivery of direct services by ADSSP and ADI-SSS grantees, as well as basic demographic information about service recipients. The 2016 version includes revisions to the approved 2013 version. The revised version would be in effect beginning 12/31/2016 and thereafter.

The proposed ADP-DRT can be found on AoA's Web site at: http://nadrc.acl.gov/sites/default/files/uploads/docs/2016%20Proposed%20OMB%20Alzheimer%20Program%20Reporting%20Tool.xlsx.

ACL estimates the burden of this collection of information as follows:

Annual Burden Estimates
Instrument | Type of respondent | Number of respondents | Responses per respondent | Burden hours per response | Total burden hours (annual)
ADP-DRT | Local Program Site | 76 | 2 | 4.67 | 709.84
ADP-DRT | Grantee | 38 | 2 | 3.6 | 273.6

Estimated Total Annual Burden Hours: 983.44.

Dated: August 17, 2016.
Edwin L. Walker,
Acting Administrator & Assistant Secretary for Aging.

[FR Doc. 2016-20156 Filed 8-22-16; 8:45 am]

BILLING CODE 4154-01-P